DEPARTMENT OF ENERGY

Notice of Public Workshops on the Selection of a Sodium Bearing Waste Treatment Technology and Resource Conservation and Recovery Act Pre-Application Permit Meetings

AGENCY: U.S. Department of Energy.

ACTION: Notice.

SUMMARY: The Department of Energy (DOE) Idaho Operations Office will hold public workshops to inform stakeholders of technology options being considered for treating sodium-bearing waste at the Idaho Nuclear Technology and Engineering Center (INTEC), location on the Idaho National Engineering and Environmental Laboratory (INEEL). DOE invites the public to comment on these options during a comment period, which starts on the date of this Notice. The workshops will provide an overview of the treatment options, allow for questions, and provide an opportunity for participants to identify issues and concerns.

These public meetings/workshops will also serve as Permit Pre-Application Meetings under the Resource Conservation and Recovery Act, as discussed in 40 CRR 124.31. Public notice of the Pre-Application meetings has been published in local newspapers and announced in other forms of public media. The public may submit comments, which DOE will forward to the state of Idaho, Department of Health and Welfare, as part of the Part B permit application process.

DATES: Public workshops, each preceded by an informal open house, will be held on the following dates and times:

Thursday, March 13, 2003

Jackson Hole Middle School

1230 S. Park Loop Road

Jackson, Wyoming

Open House: 4:30 p.m.

Workshop Starts: 7 p.m.

Tuesday, March 18, 2003

Eastern Idaho Technical College

1600 South 25th East

Idaho Falls, Idaho

Open House: 5 p.m.

Workshop Starts: 7:30 p.m.

Tuesday, March 25, 2003

College of Southern Idaho

315 Falls Ave., Taylor Building

Twin Falls, Idaho

Open House: 5:30 p.m.

Workshop Starts: 7 p.m.

ADDRESSES: Please submit all comments to Alan Jines, P.E., U.S. DOE-Idaho Operations Office, 850 Energy Drive, Idaho Falls, ID 83401.

FOR FURTHER INFORMATION CONTACT: Interested persons may obtain information by contacting: Alan Jines, (208) 526-7524; Fax: (208) 526-8789; E-mail: jinesa@id.doe.gov, or by mailing a request to the address above. Please also contact Mr. Jines in advance if you need: special accommodations at this meeting such as an American Sign Language or Spanish translator.

SUPPLEMENTARY INFORMATION: In October 2002, DOE issued the Idaho High-Level Waste and Facilities Disposition Final Environmental Impact Statement (DOE/EIS-0287) (EIS). The EIS examined the potential environmental impacts of various alternatives for treating certain liquid and solid radioactive wastes stored at the INEEL. The wastes include about 1 million gallons of sodium-bearing waste in underground storage tanks and 4,400 cubic meters of high-level waste calcine resulting from 40 years of spent nuclear fuel reprocessing at the INEEL.

The State of Idaho was a cooperating agency in the preparation of this EIS. Although DOE and the State of Idaho identified different preferred alternatives for waste processing, the two parties agree the ultimate objective is to treat sodium-bearing waste and dispose of the treated waste outside of Idaho.

The Final EIS identified DOE's preferred alternative, which is to select appropriate technologies and construct facilities necessary to prepare sodium-bearing waste for shipment to the Waste Isolation Pilot Plant near Carlsbad, New Mexico. To implement its preferred alternative, DOE will continue proof of process and demonstration-scale testing of the four technologies that appear most likely to meet the performance criteria which include effectiveness, technical maturity, risk, cost, schedule, and safety. The four technologies are: (1) Calcination; (2) Steam Reforming; (3) Direct Evaporation and (4) Cesium Ion Exchange. Selection of another technology or option analyzed in the EIS is not precluded if these four technologies fail to meet performance criteria or if a new, more promising technology is identified.

DOE issued the Final EIS after extensive public involvement that included eight hearings in four states on the Draft EIS; a 90-day public comment period; and consideration of over 900 comments. DOE expects to announce its decisions in phases, with each phase of the EIS Record of Decision addressing specific activities. DOE expects to select a technology for the treatment of sodium bearing waste in an EIS Record of Decision scheduled for early 2004. DOE hereby invites the public to participate in evaluating the technologies being considered for the treatment of sodium-bearing waste.

Copies of the EIS

Interested individuals may view the Final EIS on the Department of Energy—Idaho Operations office Web site at http://www.id.doe.gov/doeid/eis/.

Issued in Idaho Falls, Idaho, on this 3rd day of March, 2003.
Walter N. Sato,
Acting Manager, Idaho Operations Office.

[FR Doc. 03-5587 Filed 3-7-03; 8:45 am]

BILLING CODE 6450-01-M